DEPARTMENT OF THE INTERIOR

National Park Service

Plan of Operations, Environmental Assessment, and Draft Floodplains and Wetlands Statements of Findings, Big Thicket National Preserve, TX; Correction

AGENCY: National Park Service, Department of the Interior.

ACTION: Notice of availability; correction.

SUMMARY: The National Park Service (NPS) published a Notice of Availability on November 24, 2004 in accordance with Section 9.52(b) of Title 36 of the Code of Federal Regulations, Part 9, Subpart B, of a Plan of Operations submitted by Sanchez Oil and Gas Corporation for drilling and production of the WM Rice #1 Well from a surface location north of County Road 4825 within Big Thicket National Preserve, Tyler County, Texas. The notice also announced the availability of an accompanying Environmental Assessment and draft Floodplain and Wetland Statements of Findings. These documents are not, in fact, yet ready for review. When they are available, another notice will be published.

FOR FURTHER INFORMATION CONTACT: Mr. Dusty Pate, Range Technician, Big Thicket National Preserve, 3785 Milam Street, Beaumont, Texas 77701, Telephone: 409 839-2689 ext. 232, e-mail at Haigler_Pate@nps.gov.

Dated: November 30, 2004.
Stephen P. Martin,
Director, Intermountain Region, National Park Service.

[FR Doc. 04-28295 Filed 12-27-04; 8:45 am]

BILLING CODE 4312-CB-P